DEPARTMENT OF STATE

Bureau of European Affairs, Office of European Security and Political Affairs (EUR/RPM)

[Public Notice 3376]

Agency Information Collection Activities: Proposed Collection; Comment Request

AGENCY: Department of State.

ACTION: 60-Day Notice of proposed information collection; election observer questionnaire.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: Data Collection from Election Observers

Originating Office: Bureau of European Affairs, Office of European Security and Political Affairs (EUR/RPM)

Title of Information Collection: Election Observer Questionnaire.

Frequency: Occasionally, linked to elections in certain OSCE Participating States.

Form Number: None.

Respondents: U.S. citizens selected and funded by the U.S. Department of State to serve as election observers as part of OSCE Election Observation Missions.

Estimated Number of Respondents: 100 per year.

Average Hours Per Response: 10 minutes per response.

Total Estimated Burden: 1000 minutes = 16 hrs 40 minutes.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to the OSCE Coordinator, Bureau of European Affairs, Room 6227, U.S. Department of State, Washington, DC 20520 (telephone number 202-736-7290).

Dated: July 19, 2000.
Walter E. Andrusyszyn,
Acting Deputy Assistant Secretary, Bureau of European Affairs, Department of State.

[FR Doc. 00-19364 Filed 7-31-00; 8:45 am]

BILLING CODE 4710-23-P